SMALL BUSINESS ADMINISTRATION

Harbert Mezzanine Partners II SBIC, L.P., License No. 04/04-0298; Notice Seeking Exemption Under Section 312 of the Small Business Investment Act, Conflicts of Interest

Notice is hereby given that Harbert Mezzanine Partners II SBIC, L.P., 2100 Third Avenue North, Suite 600, Birmingham, AL 35203, a Federal Licensee under the Small Business Investment Act of 1958, as amended (“the Act”), in connection with the financing of CDA, Inc., 8500 South Tyron Street, Charlotte, NC 28273, has sought an exemption under Section 312 of the Act and 13 CFR 107.730 financings which constitute conflicts of interest of the Small Business Administration (“SBA”) Rules and Regulations. Harbert Mezzanine Partners II SBIC, L.P. proposes to provide debt financing to CDA, Inc., owned by Harbinger Mezzanine Partners, L.P., an associate as defined in 13 CFR 107.50 of the SBA Rules and Regulations. Therefore this transaction is considered a conflict of interest requiring SBA's prior written exemption.

Notice is hereby given that any interested person may submit written comments on the transaction, within fifteen days of the date of this publication, to the Associate Administrator for Investment, U.S. Small Business Administration, 409 Third Street SW., Washington, DC 20416.

Mark Walsh,
Associate Administrator, Office of Investment and Innovation.

[FR Doc. 2016-17317 Filed 7-21-16; 8:45 am]

BILLING CODE P